DEPARTMENT OF DEFENSE

Office of the Secretary; Defense Science Board

AGENCY: Department of Defense.

ACTION: Notice of Advisory Committee Meeting Date Change.

SUMMARY: On Wednesday, 2 January 2008 (73 FR 173) the Department of Defense announced a closed meeting of the Defense Science Board (DSB) Winter Quarterly. The meeting dates have been revised from February 6-7, 2008 to March 12-13, 2008. The meeting will be held at the Pentagon.

FOR FURTHER INFORMATION CONTACT: Debra Rose, Executive Officer, Defense Science Board, 3140 Defense Pentagon, Room 3B888A, Washington, DC 20301-3140, via e-mail at debra.rose@osd.mil, or via phone at (703) 571-0084.

Dated: January 30, 2008.
C.R. Choate,
Alternate OSD Federal Register Liaison Officer, Department of Defense.

[FR Doc. 08-513 Filed 2-5-08; 8:45 am]

BILLING CODE 5001-06-M